DEPARTMENT OF TRANSPORTATION

Federal Highway Administration

Environmental Impact Statement: Berrien County, Benton Charter Township, Michigan

AGENCY: Federal Highway Administration (FHWA), DOT.

ACTION: Notice of Intent.

SUMMARY: The FHWA is issuing this notice to advise the public that a supplement to a final environmental impact statement will be prepared to identify a recommended route for the US-31 freeway between Napier Avenue and I-94 in Berrien County, Michigan.

FOR FURTHER INFORMATION CONTACT: Mr. James Kirschensteiner, Environmental Programs and Field Operations Engineer, Federal Highway Administration, 315 W. Allegan Street, Room 207, Lansing, Michigan 48933, Telephone (517) 702-1835 or Mr. Paul Wisney, Project Manager, Design Division, Michigan Department of Transportation, P.O. Box 30050, Lansing, Michigan 48909, Telephone (517) 394-8680.

SUPPLEMENTARY INFORMATION: The FHWA in cooperation with the Michigan Department of Transportation (MDOT) is preparing a supplement to a final environmental impact statement to reevaluate the recommended alternative alignment identified in the final environmental impact statement (EIS) for the US-31 freeway, and examine potential alternative improvements and alignments. The recommended alternative identified in the June 9, 1981 FEIS, (FHWA-MI-78-02-F) consisted of a freeway alignment which traversed the Blue Creek and the adjoining fen habitat areas and provided a direct connection with I-96.

The US-31 freeway connection to the I-94 study area is generally bounded by Napier Avenue to the south, Benton Center Road to the west, Blue Creek Road to the east, and I-94 and I-96 to the north. South of the proposed study area, US-31 has been constructed as a freeway facility from the Michigan-Indiana state line to a point just south of the St. Joseph River in Berrien Springs. North of Berrien Springs, US-31 is in various stages of construction and a limited-access freeway facility is planned to be completed up to Napier Avenue by 2003. US-31 is a principal arterial serving north-south traffic in Michigan's western lower peninsula, extending approximately 356 miles from the Michigan-Indiana state line north to a point just south of Mackinaw City. This route serves commercial and recreational areas along the western side of the state of Michigan.

A wide range of transportation improvement alternatives will be analyzed within the study area. Alternatives will include a: do nothing alternative, evaluating a potential connection of US-31 with I-94 in the vicinity of the existing Benton harbor/St. Joseph Business Loop I-94 interchange, comparing these alternatives to the approved 1981 final EIS limited access freeway alignment, and evaluation of various Transportation Systems Management improvements including a new eastbound I-94 off ramp to Business Loop I-94. The entire process of determining a recommended alternative is expected to take approximately eighteen months.

Letters and scoping information describing the proposed action will be prepared to solicit comments from appropriate federal, state, cooperating agencies, and local agencies. Citizen involvement will also be solicited throughout this process. A public hearing will be held on the draft supplement to the final environmental impact statement. Public notice will be given of the time and place of the hearing. The draft supplement to the final EIS will be available for public and agency review and comment prior to the public hearing.

To ensure that the full range of issues related to this proposed action are addressed and all potentially significant issues identified, comments and suggestions are invited from all interested parties. Comments or questions concerning this proposed action and the supplement to the final EIS should be directed to the FHWA at the address provided above.

(Catalog of Federal Domestic Assistance Program Number 20.205, Highway Research, Planning, and Construction. The regulations implementing Executive Order 12372 regarding intergovernmental consultation on Federal programs and activities apply to this program.)

Issued on: May 31, 2001.
James J. Steele,
Division Administrator, Lansing, Michigan.

[FR Doc. 01-14412 Filed 6-7-01; 8:45 am]

BILLING CODE 4910-22-M